DEPARTMENT OF THE INTERIOR

National Park Service

[NPS-WASO-NRNHL-17015: PPWOCRADI0, PCU00RP14.R50000]

National Register of Historic Places; Notification of Pending Nominations and Related Actions

Nominations for the following properties being considered for listing or related actions in the National Register were received by the National Park Service before October 18, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by November 28, 2014. Before including your address, phone number, email address, or other personal identifying information in your comment, you should be aware that your entire comment—including your personal identifying information—may be made publicly available at any time. While you can ask us in your comment to withhold your personal identifying information from public review, we cannot guarantee that we will be able to do so.

Dated: October 23, 2014.
J. Paul Loether,
Chief, National Register of Historic Places/National Historic Landmarks Program.

CALIFORNIA

San Francisco County

Burr House, 1772 Vallejo St., San Francisco, 14000967

COLORADO

El Paso County

Dodge—Hamlin House, 1148 N. Cascade Ave., 1122 Wood Ave., Colorado Springs, 14000968

GEORGIA

Cobb County

Smith—Manning House, 360 Manning Rd., Marietta, 14000969

HAWAII

Honolulu County

Kunia Camp, Roughly bounded by Kunia & Pu'u Drives, Kunia, 14000970

IOWA

Hardin County

Kurtz, Glenn and Nell, Lustron Home and Garage, 2017 Washington Ave., Iowa Falls, 14000971

MASSACHUSETTS

Essex County

Point Neighborhood Historic District, Roughly bounded by Peabody, Congress, Chase & Lafayette Sts., Salem, 14000972

Plymouth County

First Parish Church of Plymouth, 19 Town Sq., Plymouth, 14000973

Suffolk County

Gridley Street Historic District, Bounded by Congress, High, Pearl & Purchase Sts., Boston, 14000974

Lyman, Theodore, School, 30 Gove St., Boston, 14000975

MICHIGAN

Gratiot County

Saint Louis Downtown Historic District, N. Mill St., W. Saginaw & W. Center Aves., St. Louis, 14000976

Jackson County

Peoples National Bank Building, 101 E. Michigan Ave., Jackson, 14000977

NEW JERSEY

Bergen County

Phelps Estate Gatehouse, 130 W. Englewood Ave., Englewood, 14000978

Cape May County

Rufwud Cottage, 394 93rd St., Stone Harbor Borough, 14000979

NEW YORK

Columbia County

Barringer—Overbaugh—Lasher House, 321 Main St., Germantown, 14000980

Dutchess County

Dover Stone Church, Stone Church Ln., Dover Plains, 14000981

NORTH CAROLINA

Caswell County

Holderness, William Henry and Sarah, House, 3082 US 158 W., Yanceyville, 14000982

Durham County

Umstead, D.C., Store and House, 3500 Hall Rd., Bahama, 14000983

Forsyth County

Old German Baptist Brethern Church, 4916 Charnel Rd., Winston-Salem, 14000984

Guilford County

Enterprise Building, 305 N. Main St., High Point, 14000985

Proximity Print Works, (Greensboro MPS) 1700 Fairview St., Greensboro, 14000986

Lenoir County

Standard Drug No. 2, 100 S. Queen St., Kinston, 14000987

Martin County

Everetts Historic District, Roughly bounded by Barnhill, Peel, Main, Ayers & James Sts., Everetts, 14000988

Mecklenburg County

Savona Mill, 528 S. Turner Ave., Charlotte, 14000989

New Hanover County

Brookwood Historic District, Roughly bounded by Market St., Keaton Ave., Burnt Mill Cr. & Wallace Park, Wilmington, 14000990

Stanly County

Albemarle Graded School—Central Elementary School, 219 E. North St., Albemarle, 14000991

Union County

Wingate Commercial Historic District, 203, 205, 207-209, 211 Main St., Wingate, 14000992

Vance County

Barker House, 1785 Barker Rd., Henderson, 14000993

OHIO

Franklin County

Gaetz Music House, 49-53 W. Long St., Columbus, 14000995

Ohio Finance Building, 39-47 W. Long St., Columbus, 14000994

PENNSYLVANIA

Lycoming County

Original Little League Field, 1695 W. 4th St., Williamsport, 14000996

TENNESSEE

Cocke County

Leadvale Coaling Station, Address Restricted, Newport, 14000997

Washington County

Johnson City Warehouse and Commerce Historic District (Boundary Decrease), 107 N. Boone, 100-102, 104 Montgomery & 200, 204, 210, 214 Montgomery Sts., Johnson City, 14000998

WYOMING

Laramie County

Dubois Block, Blk. 2, Park Addition, Cheyenne, 14000999

A request for removal has been received for the following resource:

ILLINOIS

Mercer County

Keithsburg Historic District, Roughly bounded by Jackson, 5th, Washington, and 3rd Sts., Keithsburg, 86001004

[FR Doc. 2014-26676 Filed 11-10-14; 8:45 am]

BILLING CODE 4310-70-P